DEPARTMENT OF JUSTICE

28 CFR Part 31

[Docket No.: OJP (OJJDP) 1719E]

RIN 1121-AA83

Juvenile Justice and Delinquency Prevention Act Formula Grant Program

AGENCY: Office of Justice Programs, Department of Justice.

ACTION: Final rule; delay of effective date.

SUMMARY: On January 17, 2017, the Office of Juvenile Justice and Delinquency Prevention (“OJJDP”) of the U.S. Department of Justice's Office of Justice Programs (“OJP”), published a partial final rule to amend portions of the formula grant program (“Formula Grant Program”) regulation to reflect changes in OJJDP policy. That rule is scheduled to become effective February 16, 2017.

In accordance with the memorandum of January 20, 2017, from the Assistant to the President and Chief of Staff, entitled “Regulatory Freeze Pending Review,” this action hereby temporarily delays the effective date of the final rule entitled “Juvenile Justice and Delinquency Prevention Act Formula Grant Program” until March 21, 2017 (which is 60 days from January 20, 2017). This temporary delay will allow Department of Justice officials an opportunity to review any potential questions of fact, law and policy raised by this regulation, consistent with the Chief of Staff's memorandum of January 20, 2017.

DATES: This rule is effective February 1, 2017. The effective date of the final rule amending 28 CFR part 31 published in the Federal Register on January 17, 2017, at 82 FR 4783, is delayed to March 21, 2017.

FOR FURTHER INFORMATION CONTACT: Mr. Gregory Thompson, Senior Advisor, Office of Juvenile Justice and Delinquency Prevention, at 202-307-5911.

SUPPLEMENTARY INFORMATION: The OJJDP Formula Grant Program is authorized by the Juvenile Justice and Delinquency Prevention Act (“JJDPA”). The JJDPA authorizes OJJDP to provide an annual grant to each State to improve its juvenile justice system and to support juvenile delinquency prevention programs. OJJDP published a notice of proposed rulemaking on August 8, 2016, 81 FR 52377, that proposed to revise the entirety of the Formula Grant Program regulations.

On January 17, 2017, OJJDP published a partial final rule to amend portions of the formula grant program regulation to reflect changes in OJJDP policy. For several provisions, OJJDP addressed the public comments received and amended the current Formula Grant Program regulations through the partial final rule. The partial final rule is scheduled to become effective February 16, 2017. For other provisions included in the proposed rule, OJJDP received many comments that require additional time for OJJDP to consider. OJJDP anticipates publishing a separate final rule in the future addressing the remainder of the provisions contained in the August 8, 2016 proposed rule.

This final rule merely extends for 33 days the effective date of the previously published partial final rule. There is no change to the substance of the partial final rule. Also, OJJDP has determined that the brief delay in the effective date would not delay OJJDP's administration of the Formula Grant Program and would have no effect on the amount, the timing, or the distribution of FY2017 formula grant allocations made under the standards of the previously published partial final rule. Accordingly, because there is no substantive impact, the Acting Assistant Attorney General finds that allowing a prior opportunity for notice and public comment is unnecessary and that, therefore, good cause exists to exempt this rule from notice-and-comment requirements pursuant to 5 U.S.C. 553(b)(B). Furthermore, in light of the lack of practical impact, this rule is being made effective upon publication in the Federal Register because it is not a substantive rule and, in any event, there is good cause to find, pursuant to 5 U.S.C. 553(d)(3), that a 30-day delayed effective date would be impracticable and unnecessary in these circumstances.

In accordance with the memorandum of January 20, 2017, from the Assistant to the President and Chief of Staff, entitled “Regulatory Freeze Pending Review”, this action delays until March 21, 2017, the effective date of the final rule entitled “Juvenile Justice and Delinquency Prevention Act Formula Grant Program” published in the Federal Register on January 17, 2017 at 82 FR 4783. The temporary delay in effective date will allow Department of Justice officials an opportunity to review any potential questions of fact, law and policy raised by this regulation, consistent with the Chief of Staff's memorandum of January 20, 2017.

Regulatory Certifications

Preparation of a Regulatory Flexibility Analysis is not required for this final rule because the agency was not required to publish a general notice of proposed rulemaking. This action is not a significant rulemaking pursuant to Executive Order 12866 and, accordingly, has not been reviewed by the Office of Management and Budget.

This rule will not have substantial direct effects on the States, on the relationship between the national government and the States, or on distribution of power and responsibilities among the various levels of government. Therefore, in accordance with Executive Order 13132 “Federalism” it is determined that this rule does not have sufficient federalism implications to warrant the preparation of a Federalism Assessment.

This action pertains to agency management and does not substantially affect the rights or obligations of non-agency parties and, accordingly, is not a “rule” as that term is used by the Congressional Review Act, 5 U.S.C. 804(3)(C). Therefore, the reporting requirement of 5 U.S.C. 801 does not apply.

Dated: January 27, 2017.
Maureen A. Henneberg,
Acting Assistant Attorney General, Office of Justice Programs.

[FR Doc. 2017-02139 Filed 1-31-17; 8:45 am]

BILLING CODE 4410-18-P